ENVIRONMENTAL PROTECTION AGENCY

[FRL-11519-01-OMS]

Senior Executive Service Performance Review Board; Membership

AGENCY: Environmental Protection Agency (EPA)

ACTION: Notice.

SUMMARY: Notice is hereby given of the membership of the U.S. Environmental Protection Agency (EPA) Performance Review Board for 2023.

FOR FURTHER INFORMATION CONTACT: Lizabeth Engebretson, Deputy Director, Strategic HR Insights Division, 3606R, Office of Human Resources Strategy, Office of Mission Support, U.S. Environmental Protection Agency, 1300 Pennsylvania Avenue NW, Washington DC 20460, telephone number: (202) 564-0804, email address: engebretson.lizabeth@epa.gov.

SUPPLEMENTARY INFORMATION: Section 4314(c)(1) through (5) of title 5, U.S.C., requires each agency to establish in accordance with regulations prescribed by the Office of Personnel Management, one or more SES performance review boards. This board shall review and evaluate the initial appraisal of a senior executive's performance by the supervisor, along with any recommendations to the appointment authority relative to the performance of the senior executive. Members of the 2023 EPA Performance Review Board are:

Tom Brennan, Director, Science Advisory Board, Office of the Administrator.

Erica Canzler, Director, National Enforcement Investigations Center, Office of Enforcement and Compliance Assurance.

Louis D'Amico, Associate Director for Science, Office of Science Advisor, Policy and Engagement, Office of Research and Development.

Jeffrey Dawson, Senior Science Advisor, Office of Chemical Safety and Pollution Prevention.

Lilian Dorka, Deputy Assistant Administrator for External Civil Rights, Office of Environmental Justice and External Civil Rights.

Alison Goss Eng, Deputy Director, Office of Resource Management, Office of Research and Development.

Lizabeth Engebretson, (Ex-Officio) Deputy Director, Strategic HR Insights Division, Office of Human Resources Strategy, Office of Mission Support.

Michael Harris, Director, Enforcement and Compliance Division, Region 5.

Meshell Jones-Peeler, Controller, Office of the Chief Financial Officer.

Juan Carlos Hunt, (Ex-Officio) Director, Office of Civil Rights, Office of the Administrator.

Mara J. Kamen, (Ex-Officio) Director, Office of Human Resources Strategy, Office of Mission Support.

Javier Laureano, Director, Water Division, Region 2.

Madison Le, Director, Biopesticides and Pollution Prevention Division, Office of Chemical Safety and Pollution Prevention.

Pamela Legare, Director, Office of Acquisition Solutions, Office of Mission Support.

David Lloyd, Director, Office of Brownfields and Land Revitalization, Office of Land and Emergency Management.

James McDonald, Mission Support Division Director, Region 6.

Vickie Richardson, Director, Office of Management and International Services, Office of International and Tribal Affairs.

Helen Serassio, Associate General, Cross-Cutting Issues Law Office, Office of General Counsel.

Vickie Tellis, Director, Mission Support Division, Region 4.

Thomas Wall, Director, Watershed Restoration, Assessment and Protection Division, Office of Water.

Richard “Chet” Wayland, Director of the Air Quality Assessment Division, Office of Air Quality Planning and Standards, Office of Air and Radiation.

Mara J. Kamen,
EPA Deputy Chief Human Capital Officer and Director, Office of Human Resources Strategy, Office of Mission Support.

[FR Doc. 2023-26074 Filed 11-24-23; 8:45 am]

BILLING CODE 6560-50-P